DEPARTMENT OF ENERGY

[FE Docket No. PP-234]

Application for Presidential Permit; Baja California Power, Inc.

AGENCY: Office of Fossil Energy, DOE.

ACTION: Notice of application.

SUMMARY: Baja California Power, Inc. (BCP) has applied for a Presidential permit to construct, operate, maintain, and connect a double-circuit electric transmission line across the U.S. border with Mexico.

DATES: Comments, protests, or requests to intervene must be submitted on or before April 23, 2001.

ADDRESSES: Comments, protests, or requests to intervene should be addressed as follows: Office of Coal & Power Import and Export (FE-27), Office of Fossil Energy, U.S. Department of Energy, 1000 Independence Avenue, SW., Washington, DC 20585-0350.

FOR FURTHER INFORMATION CONTACT: Ellen Russell (Program Office) 202-586-9624 or Michael T. Skinker (Program Attorney) 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038.

On February 27, 2001, BCP, a special purpose company and wholly-owned subsidiary of InterGen Aztec Energy V, B.V., and an indirect subsidiary of InterGen N.V., a Dutch limited liability company, filed an application with the Office of Fossil Energy (FE) of the Department of Energy (DOE) for a Presidential permit. BCP proposes to construct a double-circuit 230,000-volt (230-kV) across the U.S.-Mexico international border.

The BCP transmission line project will originate at a proposed powerplant to be owned by an affiliate, Energia de Baja California (EBC), an independent power producer. EBC will own and operate the powerplant adjacent to a larger, 750-megawatt (MW) powerplant being constructed by Energia Azteca X (EAX) (also an independent power producer and InterGen affiliate). The EBC and EAX powerplants are to be constructed approximately 10 miles west of the City of Mexicali, Baja California, Mexico. The proposed transmission line would head north from the associated Energia de Baja California powerplant switchyard and cross the Mexico/U.S. border west of Calexico, California, and continue to the SDG&E Imperial Valley Substation by paralleling, to the east, the existing SDG&E Imperial Valley to La Rosita transmission line. The length of the proposed transmission line would be approximately 6 miles in Mexico and an additional 5.4 miles in California. Initially, BCP proposes to install only one set of conductors, thus creating a single electrical circuit. At a later date, the second set of conductors (second electrical circuit) could be added and the transmission facilities could also transmit electric energy generated at the EAX facility to the United States. The EBC generation facilities are expected to be placed in service in June 2002. The EAX generation facilities are expected to be placed in service in March 2003.

Since restructuring of the electric power industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities to provide access across the border in accordance with the principles of comparable open access and non-discrimination contained in the FPA and articulated in Federal Energy Regulatory Commission Order No. 888 (Promotion Wholesale Competition Through Open Access Non-Discriminatory Transmission Services by Public utilities; FERC Stats. & Regs. ¶31,036 (1996)), as amended. In furtherance of this policy, on July 27, 1999, (64 FR 40586) DOE initiated a proceeding in which it noticed its intention to condition existing and future Presidential permits, appropriate for third party transmission, on compliance with a requirement to provide non-discriminatory open access transmission service. That proceeding is not yet complete. However, in this docket DOE specifically requests comment on the appropriateness of applying the open access requirement on BCP's proposed facilities.

Procedural Matters: Any person desiring to become a party to this proceeding or to be heard by filing comments or protests to this application should file a petition to intervene, comment or protest at the address provided above in accordance with §§ 385.211 or 385.214 of the FERC's rules of practice and procedures (18 CFR 385.211, 385.214). Fifteen copies of each petition and protest should be filed with the DOE on or before the date listed above.

Additional copies of such petitions to intervene or protests also should be filed directly with: Orlando Martinez, Manager, Development, InterGen, Two Alhambra Plaza, Suite 1100, Coral Gables, Florida 33134-5202.

Before a Presidential permit may be issued or amended, the DOE must determine that the proposed action will not adversely impact on the reliability of the U.S. electric power supply system. In addition, DOE must consider the environmental impacts of the proposed action (i.e., granting the Presidential permit, with any conditions and limitations, or denying the permit) pursuant to NEPA. DOE also must obtain the concurrence of the Secretary of State and the Secretary of Defense before taking final action on a Presidential permit application.

Copies of this application will be made available, upon request, for public inspection and copying at the address provided above. In addition, the application may be reviewed or downloaded from the Fossil Energy Home Page at: http://www.fe.doe.gov. Upon reaching the Fossil Energy Home page, select “Electricity” from the options menu, and then “Pending Proceedings.”

Issued in Washington, DC, on March 19, 2001.
Anthony J. Como,
Deputy Director, Electric Power Regulation, Office of Coal & Power Systems, Office of Coal & Power Im/Ex, Office of Fossil Energy.

[FR Doc. 01-7150 Filed 3-21-01; 8:45 am]

BILLING CODE 6450-01-P